DEPARTMENT OF HEALTH AND HUMAN SERVICES

Food and Drug Administration

[Docket No. FDA-2020-D-2099]

Sponsor Responsibilities—Safety Reporting Requirements and Safety Assessment for Investigational New Drug Application and Bioavailability/Bioequivalence Studies; Guidance for Industry; Availability

AGENCY: Food and Drug Administration, HHS.

ACTION: Notice of availability.

SUMMARY: The Food and Drug Administration (FDA or the Agency) is announcing the availability of a final guidance for industry entitled “Sponsor Responsibilities—Safety Reporting Requirements and Safety Assessment for Investigational New Drug Application and Bioavailability/Bioequivalence Studies.” The guidance provides recommendations for sponsors and sponsor-investigators to comply with the requirements of investigational new drug application (IND) safety reporting and safety reporting for bioavailability (BA) and bioequivalence (BE) studies. This guidance finalizes the draft guidance of the same title issued on June 28, 2021.

DATES: The announcement of the guidance is published in the Federal Register on December 16, 2025.

ADDRESSES: You may submit either electronic or written comments on Agency guidances at any time as follows:

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand Delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket No. FDA-2020-D-2099 for “Sponsor Responsibilities—Safety Reporting Requirements and Safety Assessment for Investigational New Drug Application and Bioavailability/Bioequivalence Studies.” Received comments will be placed in the docket and, except for those submitted as “Confidential Submissions,” publicly viewable at https://www.regulations.gov or at the Dockets Management Staff between 9 a.m. and 4 p.m., Monday through Friday, 240-402-7500.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” The Agency will review this copy, including the claimed confidential information, in its consideration of comments. The second copy, which will have the claimed confidential information redacted/blacked out, will be available for public viewing and posted on https://www.regulations.gov. Submit both copies to the Dockets Management Staff. If you do not wish your name and contact information to be made publicly available, you can provide this information on the cover sheet and not in the body of your comments and you must identify this information as “confidential.” Any information marked as “confidential” will not be disclosed except in accordance with 21 CFR 10.20 and other applicable disclosure law. For more information about FDA's posting of comments to public dockets, see 80 FR 56469, September 18, 2015, or access the information at: https://www.govinfo.gov/content/pkg/FR-2015-09-18/pdf/2015-23389.pdf.

Docket: For access to the docket to read background documents or the electronic and written/paper comments received, go to https://www.regulations.gov and insert the docket number, found in brackets in the heading of this document, into the “Search” box and follow the prompts and/or go to the Dockets Management Staff, 5630 Fishers Lane, Rm. 1061, Rockville, MD 20852, 240-402-7500.

You may submit comments on any guidance at any time (see 21 CFR 10.115(g)(5)).

Submit written requests for single copies of this guidance to the Division of Drug Information, Center for Drug Evaluation and Research, Food and Drug Administration, 10001 New Hampshire Ave., Hillandale Building, 4th Floor, Silver Spring, MD 20993-0002; or to the Office of Communication, Outreach and Development, Center for Biologics Evaluation and Research (CBER), Food and Drug Administration, 800-835-4709 or 240-402-8010, industry.biologics@fda.hs.gov. Send one self-addressed adhesive label to assist that office in processing your requests. See the SUPPLEMENTARY INFORMATION section for electronic access to the guidance document.

FOR FURTHER INFORMATION CONTACT: Juanita Marner, Center for Drug Evaluation and Research, Food and Drug Administration, 10903 New Hampshire Ave., Silver Spring, MD 20993-0002, 301-796-2500, cderomp@fda.hhs.gov; or Phillip Kurs, Center for Biologics Evaluation and Research, Food and Drug Administration, 240-402-7911.

SUPPLEMENTARY INFORMATION:

I. Background

FDA is announcing the availability of a guidance for industry entitled “Sponsor Responsibilities—Safety Reporting Requirements and Safety Assessment for Investigational New Drug Application and Bioavailability/Bioequivalence Studies.” The guidance provides recommendations to help sponsors and sponsor-investigators comply with the expedited safety reporting requirements for human drug and biological products that are being investigated (1) under an IND in accordance with § 312.32 (21 CFR 312.32) or (2) as part of a BA or BE study that is exempt from the IND requirements under § 320.31(d)(3) (21 CFR 320.31(d)(3)).

In the Federal Register of September 29, 2010 (75 FR 59935), FDA published a final rule amending the IND safety reporting requirements under § 312.32 and adding safety reporting requirements for persons conducting IND-exempt BA and BE studies under § 320.31. Compliance with these requirements increases the likelihood that submitted information will be interpretable and will meaningfully contribute to the developing safety profile of the investigational drug and improve the overall quality of safety reporting.

An effective systematic approach by sponsors to safety surveillance, coupled with focusing on IND safety reports for suspected adverse reactions that are both serious and unexpected, allows sponsors, FDA, participating investigators, and institutional review boards to focus on important safety issues and take actions needed to minimize the risks of participation in a clinical trial.

Following the publication of the final rule, FDA issued the guidance for industry and investigators entitled “Safety Reporting Requirements for Investigational New Drug Applications and Bioavailability/Bioequivalence Studies” (December 2012) (the 2012 final guidance) to help sponsors and investigators comply with safety reporting requirements for INDs and for BA/BE studies that meet the conditions for IND exemption under § 320.31(d)(3) (IND-exempt BA/BE studies). In 2015, FDA issued a draft guidance for industry entitled “Safety Assessment for Investigational New Drug Application Safety Reporting” (December 2015) (the 2015 draft guidance) that primarily focused on aggregate analysis of serious adverse events for reporting.

In the Federal Register of June 28, 2021 (86 FR 34020), FDA announced the draft guidance for industry entitled “Sponsor Responsibilities—Safety Reporting Requirements and Safety Assessment for Investigational New Drug Application and Bioavailability/Bioequivalence Studies” (the June 2021 draft guidance), which incorporated content from the 2012 final guidance and the 2015 draft guidance in terms of sponsors' responsibilities for safety reporting requirements for INDs and BA/BE studies. The 2015 draft guidance was withdrawn upon the publication of the June 2021 draft guidance. In September 2021, FDA issued the draft guidance for industry entitled “Investigator Responsibilities—Safety Reporting for Investigational Drugs and Devices” (the September 2021 draft guidance) to help clinical investigators comply with the safety reporting requirements of IND studies and investigational device exemption (IDE) studies. The September 2021 draft guidance incorporated content on investigator reporting under 21 CFR 312.64(b) from the 2012 final guidance.

In the Federal Register notice announcing the availability of the June 2021 draft guidance (86 FR 34020), FDA announced that when the June 2021 draft guidance and the September 2021 draft guidance were finalized, FDA planned to withdraw the 2012 final guidance because these guidances would replace the 2012 final guidance.

Elsewhere in this issue of the Federal Register, FDA also has announced the availability of a final guidance entitled “Investigator Responsibilities—Safety Reporting for Investigational Drugs and Devices.” Accordingly, FDA is withdrawing the 2012 final guidance at this time.

This guidance finalizes the June 2021 draft guidance. FDA considered comments received on the draft guidance as the guidance was finalized. Changes from the draft to the final guidance include revisions to the recommended approaches for aggregate analyses to reduce the need for unblinding to evaluate safety data; additional considerations for small programs and rare diseases; updated information for electronic submission of IND safety reports; and editorial changes for clarity.

This guidance is being issued consistent with FDA's good guidance practices regulation (21 CFR 10.115). The guidance represents the current thinking of FDA on “Sponsor Responsibilities—Safety Reporting Requirements and Safety Assessment for Investigational New Drug Application and Bioavailability/Bioequivalence Studies.” It does not establish any rights for any person and is not binding on FDA or the public. You can use an alternative approach if it satisfies the requirements of the applicable statutes and regulations.

II. Paperwork Reduction Act of 1995

While this guidance contains no collection of information, it does refer to previously approved FDA collections of information. The previously approved collections of information are subject to review by OMB under the Paperwork Reduction Act of 1995 (PRA) (44 U.S.C. 3501-3521). The collections of information in 21 CFR part 312 pertaining to the content and format of IND applications and the collections of information in § 320.31 for IND-exempt BA/BE safety reporting requirements for human drug and biological products have been approved under OMB control number 0910-0014. The collections of information in 21 CFR part 314 for safety report submissions for applicants with an approved new drug application and an abbreviated new drug application have been approved under OMB control number 0910-0001. The collections of information for submitting Form FDA 3500A and for FDA adverse event reporting and electronic submissions using the Electronic Submission Gateway and the Safety Reporting Portal have been approved under OMB control number 0910-0291. The collections of information in 21 CFR part 11 pertaining to electronic records and signatures have been approved under OMB control number 0910-0303. The collections of information in 21 CFR part 50 and part 56 pertaining to the protection of human subjects and institutional review boards, respectively, have been approved under OMB control number 0910-0130. The collections of information in 21 CFR 314.80 for submitting periodic adverse drug experience reports have been approved under OMB control number 0910-0230. The collections of information in 21 CFR 600.80 for submitting periodic adverse experience reports for biological products have been approved under OMB control number 0910-0308.

III. Electronic Access

Persons with access to the internet may obtain the guidance at https://www.fda.gov/drugs/guidance-compliance-regulatory-information/guidances-drugs, https://www.fda.gov/vaccines-blood-biologics/guidance-compliance-regulatory-information-biologics/biologics-guidances, https://www.fda.gov/regulatory-information/search-fda-guidance-documents, or https://www.regulations.gov.

Lowell M. Zeta,
Acting Deputy Commissioner for Policy, Legislation, and International Affairs.

[FR Doc. 2025-22870 Filed 12-15-25; 8:45 am]

BILLING CODE 4164-01-P